DEPARTMENT OF TRANSPORTATION

Federal Aviation Administration

14 CFR Part 39

[Docket No. FAA-2006-24074; Directorate Identifier 2005-NM-213-AD]

RIN 2120-AA64

Airworthiness Directives; Bombardier Model CL-600-2C10 (Regional Jet Series 700, 701, & 702) Airplanes, Model CL-600-2D15 (Regional Jet Series 705) Airplanes, and Model CL-600-2D24 (Regional Jet Series 900) Airplanes

AGENCY: Federal Aviation Administration (FAA), Department of Transportation (DOT).

ACTION: Notice of proposed rulemaking (NPRM).

SUMMARY: The FAA proposes to supersede an existing airworthiness directive (AD) that applies to certain Bombardier Model CL-600-2C10 (Regional Jet Series 700 & 701) and CL-600-2D24 (Regional Jet Series 900) series airplanes. The existing AD currently requires repetitive detailed inspections for cracking or deformation, or pulled or missing fasteners, on the lower panel of the left- and right-hand main landing gear (MLG) doors, as applicable, and corrective actions if necessary. This proposed AD would reduce the repetitive inspection interval for certain airplanes. This proposed AD also adds airplanes to the applicability. This proposed AD results from a report of a MLG door departing from an airplane. We are proposing this AD to prevent failure of the lower panel of the MLG door, the lower panel's departure from the airplane, and consequent damage to airplane structure, which could adversely affect the airplane's continued safe flight and landing.

DATES: We must receive comments on this proposed AD by April 6, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: room PL-401 on the plaza level of the Nassif Building, 400 Seventh Street, SW., Washington, DC, between 9 a.m. and 5 p.m., Monday through Friday, except Federal holidays.

Contact Bombardier, Inc., Canadair, Aerospace Group, P.O. Box 6087, Station Centre-ville, Montreal, Quebec H3C 3G9, Canada, for service information identified in this proposed AD.

FOR FURTHER INFORMATION CONTACT: Richard Beckwith, Aerospace Engineer, Airframe and Propulsion Branch, ANE-171, FAA, New York Aircraft Certification Office, 1600 Stewart Avenue, suite 410, Westbury, New York 11590; telephone (516) 228-7302; fax (516) 794-5531.

SUPPLEMENTARY INFORMATION:

Comments Invited

We invite you to submit any relevant written data, views, or arguments regarding this proposed AD. Send your comments to an address listed in the ADDRESSES section. Include the docket number “Docket No. FAA-2006-24074; Directorate Identifier 2005-NM-213-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On October 23, 2003, we issued AD 2003-19-51, amendment 39-13353 (68 FR 61615, October 29, 2003), for certain Bombardier Model CL-600-2C10 (Regional Jet Series 700 & 701) and CL-600-2D24 (Regional Jet Series 900) series airplanes (originally issued September 17, 2003, as an emergency airworthiness directive). That AD requires repetitive detailed inspections for cracking or deformation, or pulled or missing fasteners, on the lower panel of the left- and right-hand main landing gear (MLG) doors, as applicable, and corrective actions if necessary. That AD resulted from a report of a lower panel of the door of the right-hand MLG of a Model CL-600-2C10 series airplane departing the airplane during landing. We issued that AD to prevent failure of the lower panel of the MLG door, the lower panel's departure from the airplane, and consequent damage to airplane structure, which could adversely affect the airplane's continued safe flight and landing.

Actions Since Existing AD Was Issued

Since we issued AD 2003-19-51, Transport Canada Civil Aviation (TCCA), which is the airworthiness authority for Canada, notified us that an inboard MLG door departed from an airplane affected by the existing AD. The airplane was operating under an alternative means of compliance (AMOC) to the TCCA airworthiness directive that allowed extension of the repetitive interval when certain repairs or modifications where done. The TCCA determined that the inspection intervals should be reduced for those airplanes. The TCCA also determined that inspections are needed for additional airplanes affected by the identified unsafe condition.

Relevant Service Information

Bombardier has issued Alert Service Bulletin A670BA-32-016, Revision A, dated June 7, 2005, including Appendices A and B, dated June 2, 2005. The service bulletin describes procedures for doing repetitive inspections of the left- and right-hand inboard MLG doors for damage, and corrective actions if necessary. The inspections include doing a general visual inspection of the skin for damage such as loose, pulled, or missing fasteners, missing paint, or scratches around the rivet heads; and a detailed inspection of the inboard MLG door for cracking or deformation. The corrective actions include replacing the MLG door with a new or repaired MLG door. Accomplishing the actions specified in the service information is intended to adequately address the unsafe condition. TCCA mandated the service information and issued Canadian airworthiness directive CF-2003-23R2, dated July 27, 2005, to ensure the continued airworthiness of these airplanes in Canada.

FAA's Determination and Requirements of the Proposed AD

These airplane models are manufactured in Canada and are type certificated for operation in the United States under the provisions of section 21.29 of the Federal Aviation Regulations (14 CFR 21.29) and the applicable bilateral airworthiness agreement. Pursuant to this bilateral airworthiness agreement, TCCA has kept the FAA informed of the situation described above. We have examined TCCA's findings, evaluated all pertinent information, and determined that AD action is necessary for airplanes of this type design that are certificated for operation in the United States.

This proposed AD would supersede AD 2003-19-51. This proposed AD would retain certain requirements of AD 2003-19-51 and would require accomplishing the actions specified in the service bulletin described previously, except as discussed under “Differences Between the Proposed AD and the Service Bulletin/Canadian Airworthiness Directive.”

Differences Among the Proposed AD and the Service Bulletin/Canadian Airworthiness Directive

Although Bombardier Alert Service Bulletin A670BA-32-016, Revision A, dated June 7, 2005, and the Canadian airworthiness directive specify to submit certain information to the manufacturer, this proposed AD does not include that requirement.

Bombardier Alert Service Bulletin A670BA-32-016, Revision A, dated June 7, 2005, includes a note in the Accomplishment Instructions to inform operators to contact Bombardier if no accurate generic repair engineering order is available when accomplishing the repair. However, this proposed AD would require doing the repair using a method that we or TCCA (or its delegated agent) approve. In light of the type of repair that would be required to address the unsafe condition, and consistent with existing bilateral airworthiness agreements, we have determined that, for this proposed AD, a repair we or TCCA (or its delegated agent) approve would be acceptable for compliance with this proposed AD. The Canadian airworthiness directive references the limitations specified in the configuration deviation list (CDL) for airplanes that remove damaged inboard MLG doors. The information in the CDL has been revised since we issued AD 2003-19-51. For airplanes on which the door(s) have been removed in accordance with AD 2003-19-51, we would require revising the CDL to the latest revision.

Change to Existing AD

This proposed AD would retain certain requirements of AD 2003-19-51. Since AD 2003-19-51 was issued, the AD format has been revised, and certain paragraphs have been rearranged. As a result, the corresponding paragraph identifiers have changed in this proposed AD, as listed in the following table:

Revised Paragraph Identifiers
Requirement in AD 2003-19-51 | Corresponding requirement in this proposed AD
paragraph (a) | paragraph (f).
paragraph (b) | paragraph (g).
paragraph (c) | paragraph (h).
paragraph (d) | paragraph (i).

Clarification of Alternative Method of Compliance (AMOC) Paragraph

We have revised this action to clarify the appropriate procedure for notifying the principal inspector before using any approved AMOC on any airplane to which the AMOC applies.

Explanation of Change to Applicability

We have revised the applicability of the existing AD to identify model designations as published in the most recent type certificate data sheet for the affected models.

Interim Action

We consider this proposed AD interim action. If final action is later identified, we may consider further rulemaking then.

Costs of Compliance

The following table provides the estimated costs for U.S. operators to comply with this proposed AD.

Estimated Costs
Action | Work hours | Average labor rate per hour | Cost per airplane | Number of U.S.-registered airplanes | Fleet cost
Inspections (required by AD 2003-19-51) | 1 | $65 | $65, per inspection cycle | 83 | $5,395, per inspection cycle.
Inspections (new proposed action) | 1 | 65 | $65, per inspection cycle | 213 | $13,854, per inspection cycle.
Revision (new proposed action) | 1 | 65 | $65, if necessary | 213 | Up to $13,854.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the National Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13353 (68 FR 61615, October 29, 2003) and adding the following new airworthiness directive (AD):

Bombardier, Inc. (Formerly Canadair): Docket No. FAA-2006-24074; Directorate Identifier 2005-NM-213-AD.

Comments Due Date

(a) The FAA must receive comments on this AD action by April 6, 2006.

Affected ADs

(b) This AD supersedes AD 2003-19-51.

Applicability

(c) This AD applies to Bombardier Model CL-600-2C10 (Regional Jet Series 700, 701, & 702) airplanes, serial numbers (S/Ns) 10003 and subsequent; and Model CL-600-2D15 (Regional Jet Series 705) airplanes, and Model CL-600-2D24 (Regional Jet Series 900) airplanes, S/Ns 15001 and subsequent; certificated in any category.

Unsafe Condition

(d) This AD results from a report of a main landing gear (MLG) door departing from an airplane. We are issuing this AD to prevent failure of the lower panel of the MLG door, the lower panel's departure from the airplane, and consequent damage to airplane structure, which could adversely affect the airplane's continued safe flight and landing.

Compliance

(e) You are responsible for having the actions required by this AD performed within the compliance times specified, unless the actions have already been done.

Restatement of Requirements of AD 2003-19-51

Initial Compliance Time

(f) For Model CL-600-2C10 (Regional Jet series 700 & 701) series airplanes, S/Ns 10003 through 10999 inclusive; and Model CL-600-2D24 (Regional Jet series 900) series airplanes, S/Ns 15002 through 15990 inclusive: Perform the initial inspection specified in paragraph (g) of this AD at the applicable time specified in paragraph (f)(1) or (f)(2) of this AD.

(1) For airplanes with fewer than 1,500 total flight cycles as of November 3, 2003, (the effective date of AD 2003-19-51): Do the inspections before the accumulation of 1,050 total flight cycles, or within 50 flight cycles after the effective date of this AD, whichever is later.

(2) For airplanes with 1,500 or more total flight cycles as of November 3, 2003: Do the inspections within 10 flight cycles after the effective date of this AD.

Inspections

(g) For Model CL-600-2C10 (Regional Jet series 700 & 701) series airplanes, S/Ns 10003 through 10999 inclusive; and Model CL-600-2D24 (Regional Jet series 900) series airplanes, S/Ns 15002 through 15990 inclusive: At the applicable time specified in paragraph (f) of this AD, perform detailed inspections of the lower panel, part number (P/N) CC670-10520, of the left- and right-hand MLG doors for the conditions and in the areas specified in paragraphs (g)(1), (g)(2), (g)(3), and (g)(4) of this AD; and Figures 1, 2, and 3 of this AD.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) Inspect the cross member, P/N CC670-10572, of the MLG door lower panel for cracking or deformation, in accordance with Figure 2 of this AD.

(2) Inspect the inner skin, P/N CC670-10577, of the MLG door lower panel at the cross member (P/N CC670-10572) for cracking or deformation, or pulled or missing fasteners, in accordance with Figure 2 of this AD.

(3) Inspect the outer skin, P/N CC670-10574, of the MLG door lower panel at the cross member (P/N CC670-10572) for cracking or deformation, or pulled or missing fasteners, in accordance with Figure 2 of this AD.

(4) Inspect the forward member, P/N CC670-10570, and aft member, P/N CC670-10571, of the MLG door lower panel, for cracking or deformation, or pulled or missing fasteners, in accordance with Figure 3 of this AD. Figures 1 through 3 of this AD follow.

BILLING CODE 4910-13-P

BILLING CODE 4910-13-C

Repetitive Inspections

(h) If no cracking or deformation, or pulled or missing fastener, as applicable, is found during any inspection required by paragraph (g) or (h) of this AD, repeat the inspections thereafter at intervals not to exceed 100 flight cycles.

Corrective Actions

(i) If any cracking or deformation, or pulled or missing fastener, as applicable, is found during any inspection done in accordance with paragraph (g) or (h) of this AD: Before further flight, accomplish paragraph (i)(1), (i)(2), or (i)(3) of this AD.

(1) Repair the damage in accordance with a method approved by either the Manager, New York Aircraft Certification Office (ACO), FAA; or Transport Canada Civil Aviation (or its delegated agent); and accomplish repetitive inspections in accordance with a method and at a repetitive interval approved by same.

(2) Replace the lower panel assembly, P/N CC670-10520, of the affected MLG door with a new or serviceable lower panel assembly having the same P/N, in accordance with Task Cards 32-12-01-000-801-A01 and 32-12-01-400-801-A01 of the CRJ 700/900 Series Regional Jet Aircraft Maintenance Manual; and repeat the inspections specified in paragraph (g) of this AD at intervals not to exceed 100 flight cycles.

(3) Remove the lower panel assembly, P/N CC670-10520, of the affected MLG door, and accomplish paragraph (i)(3)(i) or (i)(3)(ii), as applicable.

(i) For Model CL600-2C10 (Regional Jet series 700 & 701) series airplanes: Revise the Configuration Deviation List (CDL), Appendix 1, of the airplane flight manual (AFM), to include the following limitations. This may be accomplished by inserting a copy of this AD into the CDL of the AFM.

“For Model CL600-2C10 series airplanes: If one or both door panel assemblies, part number CC670-10520, is missing:

(1) Take-off Weight is reduced by 202.5 kg/door, or 450 lb/door

(2) Enroute Climb Weight is reduced by 445.5 kg/door, or 990 lb/door

(3) Landing Weight is reduced by 202.5 kg/door, or 450 lb/door

(4) Fuel Consumption is increased by +3.42% on fuel used/door

(5) Cruise Airspeed is limited to not more than 0.78 Mach.”

(ii) For Model CL-600-2D24 (Regional Jet series 900) series airplanes: Revise the CDL, Appendix 1, of the AFM, to include the following limitations. This may be accomplished by inserting a copy of this AD into the CDL of the AFM.

“For Model CL600-2D24 series airplanes: If one or both door panel assemblies, part number CC670-10520, is missing:

(1) Take-off Weight is reduced by 245 kg/door, or 540 lb/door

(2) Enroute Climb Weight is reduced by 551 kg/door, or 1,215 lb/door

(3) Landing Weight is reduced by 245 kg/door, or 540 lb/door

(4) Fuel Consumption is increased by +3.42% on fuel used/door

(5)Cruise Airspeed is limited to not more than 0.78 Mach.”

New Requirements of This AD

Inboard MLG Door Inspections

(j) For all airplanes on which an inspection has not been done in accordance with paragraph (g) of this AD on or before the effective date of this AD: At the applicable time specified in paragraph (j)(1) or (j)(2) of this AD, do the inspections of the left- and right-hand inboard MLG doors for damage in accordance with Part A of the Accomplishment Instructions of the Bombardier Alert Service Bulletin A670BA-32-016, Revision A, dated June 7, 2005, including Appendix B, dated June 2, 2005, excluding Appendix A, dated June 2, 2005. Doing the inspections required by this paragraph terminates the actions required by paragraphs (f) through (i) of this AD.

(1) For airplanes that have accumulated fewer than 1,500 total flight cycles as of the effective date of this AD: Before the accumulation of 1,000 total flight cycles or within 50 flight cycles after the effective date of this AD, whichever occurs later.

(2) For airplanes that have accumulated 1,500 flight cycles or more as of the effective date of this AD: Within 10 flight cycles after the effective date of this AD.

(k) For all airplanes on which an inspection has been done in accordance with paragraph (g) of this AD on or before the effective date of this AD and on which both doors have not been removed in accordance with paragraph (i)(3) of this AD: At the applicable time specified in paragraph (k)(1) or (k)(2) of this AD, do the inspections specified in paragraph (j) of this AD; except for airplanes on which one door has been removed in accordance with paragraph (i)(3) of this AD, do the inspections specified in paragraph (j) of this AD for the door that has not been removed. Doing the inspections required by this paragraph terminates the actions required by paragraphs (f) through (i) of this AD.

(1) For airplanes that are not subject to an approved alternative method of compliance (AMOC) that extends the inspection interval to 450 flight cycles: Within 100 flight cycles since the last inspection done in accordance with paragraph (g) of this AD.

(2) For airplanes that are subject to an approved AMOC that extends the inspection interval to 450 flight cycles: At the earlier of the times specified in paragraph (k)(2)(i) and (k)(2)(ii) of this AD:

(i) Within 450 flight cycles since the last inspection done in accordance with paragraph (g) of this AD.

(ii) Within 100 flight cycles since the last inspection done in accordance with paragraph (g) of this AD or within 50 cycles after the effective date of this AD, whichever occurs later.

(l) If no damage is found during any inspection done in accordance with paragraph (j) of this AD, repeat the inspections specified in paragraph (j) of this AD thereafter at intervals not to exceed 100 flight cycles.

Corrective Action—Replace or Remove MLG Door

(m) If any damage is found during any inspection done in accordance with paragraph (j) of this AD, before further flight, do the actions in paragraph (m)(1) or (m)(2) of this AD. Repeat the inspections specified in paragraph (j) of this AD thereafter at intervals not to exceed 100 flight cycles.

(1) Replace the inboard MLG door with a new or repaired door in accordance with Part B of the Accomplishment Instructions of the Bombardier Alert Service Bulletin A670BA-32-016, Revision A, dated June 7, 2005, including Appendix B, dated June 2, 2005, excluding Appendix A, dated June 2, 2005; except where the service bulletin specifies to contact the manufacturer for repair if no generic repair engineering order (REO) is available, before further flight, repair using a method approved by either the Manager, New York Aircraft Certification Office (ACO), FAA; or the Transport Canada Civil Aviation (TCCA) (or its delegated agent).

(2) Remove the inboard MLG door in accordance with Part B of the Accomplishment Instructions of the Bombardier Alert Service Bulletin A670BA-32-016, Revision A, dated June 7, 2005, including Appendix B, dated June 2, 2005, excluding Appendix A, dated June 2, 2005; and accomplish paragraph (m)(2)(i) or (m)(2)(ii), as applicable.

(i) For Model CL-600-2C10 (Regional Jet Series 700, 701, & 702) airplanes and Model CL-600-2D15 (Regional Jet Series 705) airplanes: Revise the Configuration Deviation List (CDL), Appendix 1, of the airplane flight manual (AFM), to include the following limitations. This may be accomplished by inserting a copy of this AD into the CDL of the AFM. Remove any existing CDL limitation required by paragraph (i)(3)(i) of this AD from the AFM.

“For Model CL-600-2C10 (Regional Jet Series 700, 701, & 702) airplanes and Model CL-600-2D15 (Regional Jet Series 705) airplanes: If one or both door panel assemblies, part number CC670-10520, is missing:

(1) Take-off Weight is reduced by 202.5 kg/door, or 450 lb/door

(2) Enroute Climb Weight is reduced by 445.5 kg/door, or 990 lb/door

(3) Landing Weight is reduced by 202.5 kg/door, or 450 lb/door

(4) Fuel Consumption is increased by +2.5% on fuel used/door

(5) Cruise Airspeed is limited to not more than 0.78 Mach

(6) The climb ceiling obtained from the Flight Planning and Cruise Control Manual (FPCCM) must be reduced by 1,000 ft/door.”

Note 2: When a statement with the information specified in paragraph (m)(2)(i) of this AD has been included in the general revisions of the AFM, the general revisions may be inserted into the AFM, and the copy of this AD may be removed from the AFM.

(ii) For Model CL-600-2D24 (Regional Jet Series 900) airplanes: Revise the CDL, Appendix 1, of the AFM, to include the following limitations. This may be accomplished by inserting a copy of this AD into the CDL of the AFM. Remove any existing CDL limitation required by paragraph (i)(3)(ii) of this AD from the AFM.

“For Model CL-600-2D24 (Regional Jet Series 900) airplanes: If one or both door panel assemblies, part number CC670-10520, is missing:

(1) Take-off Weight is reduced by 245 kg/door, or 540 lb/door

(2) Enroute Climb Weight is reduced by 551 kg/door, or 1,215 lb/door

(3) Landing Weight is reduced by 245 kg/door, or 540 lb/door

(4) Fuel Consumption is increased by +2.5% on fuel used/door

(5)Cruise Airspeed is limited to not more than 0.78 Mach

(6)The climb ceiling obtained from the Flight Planning and Cruise Control Manual (FPCCM) must be reduced by 1,000 ft/door.”

Note 3: When a statement with the information specified in paragraph (m)(2)(ii) of this AD has been included in the general revisions of the AFM, the general revisions may be inserted into the AFM, and the copy of this AD may be removed from the AFM.

Revise CDL

(n) For airplanes on which the door(s) have been removed in accordance with paragraph (i)(3) of this AD: Within 30 days after the effective date of this AD, do the revision specified in paragraph (m)(2)(i) or (m)(2)(ii) of this AD, as applicable, and remove any revision required by paragraph (i)(3)(i) or (i)(3)(ii) of this AD.

No Reporting Required

(o) Although Bombardier Alert Service Bulletin A670BA-32-016, Revision A, dated June 7, 2005, specifies to submit certain information to the manufacturer, this AD does not include that requirement.

Actions Accomplished According to Previous Issue of Service Bulletin

(p) Actions accomplished before the effective date of this AD according to Bombardier Alert Service Bulletin A670BA-32-016, dated June 2, 2005, are considered acceptable for compliance with the corresponding action specified in this AD.

Alternative Methods of Compliance (AMOCs)

(q)(1) The Manager, New York Aircraft Certification Office (ACO), FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) AMOCs approved previously in accordance with AD 2003-19-51 are not approved as AMOCs with this AD.

Related Information

(r) Canadian airworthiness directive CF-2003-23R2, dated July 27, 2005, also addresses the subject of this AD.

Issued in Renton, Washington, on February 22, 2006.
Michael J. Kaszycki,
Acting Manager, Transport Airplane Directorate, Aircraft Certification Service.

[FR Doc. 06-2159 Filed 3-6-06; 8:45 am]

BILLING CODE 4910-13-P